DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign-in.

FOR FURTHER INFORMATION CONTACT: Roslyn B. Fontaine, Office of Standards, Regulations and Variances at 202-693-9475 (Voice), fontaine.roslyn@dol.gov (Email), or 202-693-9441 (Telefax), or Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2009-049-C.

FR Notice: 75 FR 3256 (1/20/2010).

Petitioner: INR-WV Operating LLC, 100 Market Street, Suite A, Man, West Virginia 25635.

Mine: Saunders Prep Plant, MSHA Mine I.D No. 46-02140, located in Logan County, West Virginia.

Regulation Affected: 30 CFR 77.214(a) (Refuse piles; general).

• Docket Number: M-2012-001-C.

FR Notice: 77 FR 14427 (3/9/2012).

Petitioner: Wolf Run Mining Company, 99 Edmiston Way, Buckhannon, West Virginia 26201.

Mine: Imperial Mine, MSHA I.D. No. 46-09115, located in Upshur County, West Virginia.

Regulation Affected: 30 CFR 75.1700 (Oil and gas wells).

• Docket Number: M-2012-002-C.

FR Notice: 77 FR 14427 (3/9/2014).

Petitioner: Wolf Run Mining Company, 99 Edmiston Way, Buckhannon, West Virginia 26201.

Mine: Sentinel Mine, MSHA I.D. No. 46-04168, located in Upshur County, West Virginia.

Regulation Affected: 30 CFR 75.1700 (Oil and gas wells).

• Docket Number: M-2013-022-C.

FR Notice: 78 FR 35977 (6/14/2013).

Petitioner: Paramount Coal Company Virginia, LLC, Three Gateway Center, Suite 1500, 401 Liberty Avenue, Pittsburgh, Pennsylvania 15222.

Mine: Deep Mine 41, MSHA I.D. No. 44-07223, located in Dickenson County, Virginia.

Regulation Affected: 30 CFR 75.1700 (Oil and gas wells).

• Docket Number: M-2013-024-C.

FR Notice: 78 FR 36599 (6/18/2013).

Petitioner: Wolf Run Mining Company, 99 Edmiston Way, Buckhannon, West Virginia 26201.

Mine: Sentinel Mine, MSHA I.D. No. 46-04168, located in Barbour County, West Virginia

Regulation Affected: 30 CFR 75.500(d) (Permissible electric equipment).

• Docket Number: M-2013-025-C.

FR Notice: 78 FR 36599 (6/18/2013).

Petitioner: Wolf Run Mining Company, 99 Edmiston Way, Buckhannon, West Virginia 26201.

Mine: Sentinel Mine, MSHA I.D. No. 46-04168, located in Barbour County, West Virginia

Regulation Affected: 30 CFR 75.507-1(a) (Electric equipment other than power-connection points; outby the last open crosscut; return air; permissibility requirements).

• Docket Number: M-2013-026-C.

FR Notice: 78 FR 36600 (6/18/2013).

Petitioner: Wolf Run Mining Company, 99 Edmiston Way, Buckhannon, West Virginia 26201.

Mine: Sentinel Mine, MSHA I.D. No. 46-04168, located in Barbour County, West Virginia

Regulation Affected: 30 CFR 75.1002(a) (Installation of electric equipment and conductors; permissibility).

• Docket Number: M-2013-027-C.

FR Notice: 78 FR 36601 (6/18/2013).

Petitioner: North American Drillers, 130 Meadow Ridge Road, Suite 22, Mount Morris, Pennsylvania 15349.

Mine: American Energy Corporation's Century Mine, MSHA I.D. No. 33-01070, located in Monroe County, Ohio.

Regulation Affected: 30 CFR 77.1914(a) (Electrical Equipment).

• Docket Number: M-2013-035-C.

FR Notice: 78 FR 55297 (9/10/2013).

Petitioner: Five Star Mining, Inc., 6594 West State Road 56, Petersburg, Indiana 47567.

Mine: Prosperity Mine, MSHA I.D. No. 12-02249, located in Pike County, Indiana.

Regulation Affected: 30 CFR 75.503 (Permissible electric face equipment; maintenance) and 30 CFR 18.35(a)(5)(i) (Portable trailing cables and cords).

• Docket Number: M-2013-048-C.

FR Notice: 78 FR 69136 (11/18/2013).

Petitioner: Pocahontas Coal Company, LLC, 109 Appalachian Drive, Beckley, West Virginia 25801.

Mine: Josephine No. 2 Mine, MSHA I.D. No. 46-07191, located in Raleigh County, West Virginia.

Regulation Affected: 30 CFR 75.1101-1(b) Deluge-type water spray systems).

• Docket Number: M-2013-052-C.

FR Notice: 78 FR 78391 (12/26/2013).

Petitioner: Rosebud Mining Company, P.O. Box 1025, North Cambria, Pennsylvania 15714.

Mine: Brush Valley Mine, MSHA I.D. No. 36-09437, located in Indiana County, Pennsylvania.

Regulation Affected: 30 CFR 75.503 (Permissible electric face equipment; maintenance) and 30 CFR 18.35(a)(5)(i) (Portable trailing cables and cords).

Sheila McConnell,
Acting Director, Office of Standards, Regulations and Variances.

[FR Doc. 2014-15035 Filed 6-26-14; 8:45 am]

BILLING CODE 4510-43-P